DEPARTMENT OF THE INTERIOR

National Park Service

[NPS-WASO-NRNHL-14635; PPWOCRADI0, PCU00RP14.R50000]

National Register of Historic Places; Notification of Pending Nominations and Related Actions

Nominations for the following properties being considered for listing or related actions in the National Register were received by the National Park Service before November 30, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by January 29, 2014. Before including your address, phone number, email address, or other personal identifying information in your comment, you should be aware that your entire comment—including your personal identifying information—may be made publicly available at any time. While you can ask us in your comment to withhold your personal identifying information from public review, we cannot guarantee that we will be able to do so.

Dated: December 11, 2013.
J. Paul Loether,
Chief, National Register of Historic Places/National Historic Landmarks Program.

CALIFORNIA

Sacramento County

Lawrence Warehouse, 1108 R St.,Sacramento, 13001067

San Luis Obispo County

Pereira Octagon Barn, 4400 Octagon Wy., San Luis Obispo, 13001068

Stanislaus County

Bald Eagle Ranch House, 511 Crawford Rd., Modesto, 13001069

DISTRICT OF COLUMBIA

District of Columbia

Lightfoot, George M., House, 1329 Missouri Ave. NW., Washington, 13001070

Town Center East, 1001 & 1101 3rd St. SW., Washington, 13001071

FLORIDA

Jefferson County

Jefferson County Jail, 380 W. Dogwood St., Monticello, 13001072

IDAHO

Blaine County

Hemingway, Ernest and Mary, House, Address Restricted, Ketchum, 13001073

INDIANA

Fayette County

Roberts Park, Park Rd. & 30th St., Connersville, 13001074

IOWA

Butler County

Renken, Renke and Wubke, House, 401 Coates St., Parkersburg, 13001075

Des Moines County

White, Abiathar and Nancy, House, 713 N. Main, Burlington, 13001076

Kossuth County

G.A.R. Memorial Hall, 122 S. Dodge St., Algona, 13001077

Page County

Clarinda Carnegie Library, 300 N. 16th St., Clarinda, 13001078

Union County

Odd Fellows Block, 175 E. Kansas St., Afton, 13001079

MISSISSIPPI

Harrison County

Gulfport Veterans Administration Medical Center Historic District, (United States Second Generation Veterans Hospitals MPS) 200 Beach Blvd., Gulfport, 13001080

Hinds County

Smith Park Architectural District (Boundary Increase III), 200 blk. E. Capitol St., Jackson, 13001081

Humphreys County

Humphreys County Courthouse, 102 Castleman St., Belzoni, 13001082

Scott County

Forest Downtown Historic District, Roughly bounded by RR tracks, Front, 3rd, Raleigh & Smith Sts., Forest, 13001083

Washington County

Hollandale Downtown Historic District, Washington St. from East to Morgan Aves., Hollandale, 13001084

MISSOURI

Cape Girardeau County

St. James A.M.E. Church, 516 N. St., Cape Girardeau, 13001085

Jackson County

Lincoln High School, (Kansas City, Missouri School District Pre-1970 MPS) 2111 Woodland Ave., Kansas City, 13001086

Norman School, (Kansas City, Missouri School District Pre-1970 MPS) 3514 Jefferson St., Kansas City, 13001087

St. Louis Independent city

Hamiltonian Federal Savings and Loan Association Building, 3150 S. Grand Blvd., St. Louis (Independent City), 13001088

NEW YORK

Cattaraugus County

Leon Grange No. 795, NY 62 near Leon-New Albion Rd., Leon, 13001089

Herkimer County

Keith, James, House and Brown—Morey—Davis Farm, 2615 & 2608 Newport Rd., Newport, 13001090

Monroe County

White, John and Chauncey, House, 854 White Rd., West Sweden, 13001091

Rensselaer County

Searle, Gardner and Company Cuff and Collar Factory, (Textile Factory Buildings in Troy, New York, 1880-1920 MPS) 701-715 River St., Troy, 13001092

Tioga County

Riverside Cemetery, Marshland Rd., Apalachin, 13001093

Ulster County

Brooklyn and Queens Transit Trolley No. 1000, 89 E. Strand, Kingston, 13001094

Westchester County

Irvington Historic District, N. & S. Astor, Broadway, Buckhout, Cottenet, Dearman, Dutcher, Eckar & Ferris Sts., Bridge St., E. & W. Home Pl., Irvington, 13001095

East Portland Grand Avenue Historic District (Boundary Increase), 200 SE. Martin Luther King Blvd., Portland, 13001066

SOUTH CAROLINA

Beaufort County

Callawassie Sugar Works, 29 Sugar Mill Dr., Okatie, 13001096

Newberry County

Prosperity Cemetery, McNeary St., Prosperity, 13001097

York County

Williamson's Plantation Battlefield, 1444 Brattonsville Rd., McConnells, 13001098

TEXAS

Harris County

Astrodome, The, 8400 Kirby Dr., Houston, 13001099

[FR Doc. 2014-00482 Filed 1-13-14; 8:45 am]

BILLING CODE 4312-51-P